DEPARTMENT OF COMMERCE

National Oceanic and Atmospheric Administration

50 CFR Part 660

RIN 0648-BG98

Magnuson-Stevens Act Provisions; Fisheries Off West Coast States; Pacific Coast Groundfish Fishery; Pacific Whiting; Pacific Coast Groundfish Fishery Management Plan; Amendment 21-3; Trawl Rationalization Program

AGENCY: National Marine Fisheries Service (NMFS), National Oceanic and Atmospheric Administration (NOAA), Commerce.

ACTION: Notice of availability; request for comments.

SUMMARY: NMFS announces that the Pacific Fishery Management Council (Council) submitted Amendment 21-3 to the Pacific Coast Groundfish Fishery Management Plan (PCGFMP) to the Secretary of Commerce for review. If approved, Amendment 21-3 would modify the PCGFMP to manage darkblotched rockfish and Pacific ocean perch (POP), currently overfished species, as set-asides or “soft-caps” rather than with allocations, or “hard caps” for the Pacific whiting at-sea sectors. This action is intended to avoid the risk of early fishery closures of the at-sea Pacific whiting sectors due to incidental catch of darkblotched rockfish and POP, while keeping the catch of these species within their respective annual catch limits (ACLs).

DATES: Comments on Amendment 21-3 must be received on or before Sunday, November 27, 2017.

ADDRESSES: You may submit comments on this document, identified by NOAA-NMFS-2017-0102, by any of the following methods:

• Electronic Submission: Submit all electronic public comments via the Federal e-Rulemaking Portal. Go to www.regulations.gov/#!docketDetail;D=NOAA-NMFS-2017-0102, click the “Comment Now!” icon, complete the required fields, and enter or attach your comments.

• Mail: Submit written comments to Barry A. Thom., Regional Administrator, 7600 Sand Point Way NE., Seattle, WA 98115.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Information relevant to Amendment 21-3, which includes a memo categorically excluding this action from National Environmental Protection Act, a regulatory impact review (RIR), and an initial regulatory flexibility analysis (RFA) are available for public review during business hours at the NMFS West Coast Regional Office at 7600 Sand Point Way NE., Seattle, WA 98115, or by requesting them via phone or the email address listed in the FOR FURTHER INFORMATION CONTACT section. Copies of additional reports referred to in this document may also be obtained from the Council.

FOR FURTHER INFORMATION CONTACT: Miako Ushio, phone: 206-526-4644, or email: Miako.Ushio@noaa.gov.

SUPPLEMENTARY INFORMATION:

Electronic Access

FMP Amendment 21-3, background information and documents are available at the Council's Web site at http://www.pcouncil.org/groundfish/fishery-management-plan/groundfish-amendments-in-development/. Additional background documents are available at the NMFS West Coast Region Web site at http://www.westcoast.fisheries.noaa.gov/fisheries/groundfish/index.html.

Background

NMFS manages the groundfish fisheries in the exclusive economic zone off Washington, Oregon, and California under the PCGFMP. The Council prepared and NMFS implemented the PCGFMP under the authority of the Magnuson-Stevens Fishery Conservation and Management Act (Magnuson-Stevens Act), 16 U.S.C. 1801 et seq. and by regulations at 50 CFR parts 600 and 660. The Magnuson-Stevens Act requires that each regional fishery management council submit any federal management plan (FMP) or plan amendment it prepares to NMFS for review and approval, disapproval, or partial approval by the Secretary of Commerce. The Magnuson-Stevens Act also requires that NMFS, upon receiving an FMP or amendment, immediately publish a notice that the FMP or amendment is available for public review and comment. This notice announces that proposed Amendment 21-3 to the PCGFMP is available for public review and comment. NMFS will consider the public comments received during the comment period described above in determining whether to approve, partially approve, or disapprove Amendment 21-3 to the PCGFMP.

Amendment 21-3 consists of two components: (1) Changes in the way two overfished species, darkblotched rockfish and POP are managed in the Pacific whiting at-sea sectors, and (2) allows automatic closure by NMFS of one or both of the at-sea sectors in the event that the set-aside plus the available reserve for unforeseen catch events (known as the “buffer”) of either species is projected to be reached.

The Council has been exploring alternative management measures with the purpose of substantially reducing the risk of the Pacific whiting at-sea sectors (mothership [MS] and catcher processor [CP]) not attaining their respective whiting allocations based on the incidental catch of darkblotched rockfish or POP, which are currently overfished species subject to rebuilding plans. Timeliness and administrative feasibility were important considerations of the Council in exploring these measures. The proposed FMP amendment is intended to be an interim solution to address the immediate needs of the at-sea sectors with regards to incidental catch of darkblotched rockfish or POP.

NMFS welcomes comments on the proposed FMP amendment through the end of the comment period. A proposed rule to implement Amendment 21-3 has been submitted for Secretarial review and approval. NMFS expects to publish and request public review and comment on proposed regulations to implement Amendment 21-3 in the near future. For public comments on the proposed rule to be considered in the approval or disapproval decision on Amendment 21-3, those comments must be received by the end of the comment period on the amendment. All comments received by the end of the comment period for the amendment, whether specifically directed to the amendment or the proposed rule, will be considered in the approval/disapproval decision.

Authority: 16 U.S.C. 1801 et seq.

Dated: September 22, 2017.
Emily H. Menashes,
Acting Director, Office of Sustainable Fisheries, National Marine Fisheries Service.

[FR Doc. 2017-20692 Filed 9-26-17; 8:45 am]

BILLING CODE 3510-22-P